DEPARTMENT OF TRANSPORTATION

Federal Aviation Administration

14 CFR Part 91

[Docket No. FAA-2014-0396]

Interpretation of the Special Rule for Model Aircraft

AGENCY: Federal Aviation Administration (FAA), DOT.

ACTION: Notice of interpretation with request for comment; Extension of comment period.

SUMMARY: The FAA is extending the comment period on its Interpretation of the Special Rule for Model Aircraft that was published on June 25, 2014.

DATES: The comment period for the notice of interpretation published June 25, 2014 (79 FR 36172), is extended. Comments must be received on or before September 23, 2014.

ADDRESSES: You may send comments identified by docket number FAA-2014-0396 using any of the following methods:

• Federal eRulemaking Portal: Go to http://www.regulations.gov and follow the online instructions for sending your comments electronically.

• Mail: Send comments to Docket Operations, M-30; U.S. Department of Transportation, 1200 New Jersey Avenue SE., West Building Ground Floor, Room W12-140, West Building Ground Floor, Washington, DC 20590-0001.

• Hand Delivery: Take comments to Docket Operations in Room W12-140 of the West Building Ground Floor at 1200 New Jersey Avenue SE., Washington, DC, between 9 a.m. and 5 p.m., Monday through Friday, except Federal holidays.

• Fax: (202) 493-2251.

FOR FURTHER INFORMATION CONTACT: Dean E. Griffith, Attorney, International Law, Legislation, and Regulations Division, Office of the Chief Counsel, Federal Aviation Administration, 800 Independence Avenue SW., Washington, DC 20591; telephone (202) 267-3073; email: dean.griffith@faa.gov.

SUPPLEMENTARY INFORMATION: The FAA published a notice of interpretation with request for comment in the Federal Register on June 25, 2014 (79 FR 36172) that discussed the FAA's interpretation of the Special Rule for Model Aircraft established in section 336 of the FAA Modernization and Reform Act of 2012. The notice requested that interested parties submit written comments by July 25, 2014.

On July 16, 2014, the Academy of Model Aeronautics submitted a request to extend the comment period by 60 days, citing the need to “educate the aeromodeling community, clarify the issues, and respond to questions regarding the impact that the interpretive rule has on various aspects of the modeling activity.” The FAA agrees that additional time for the submission of comments would be helpful, and therefore has decided to extend the comment period until September 23, 2014. The FAA expects that the additional time for comments will allow the affected community to prepare meaningful comments which will help the FAA to determine what clarifications to the interpretation may be necessary.

Issued in Washington, DC, on July 22, 2014.
Mark W. Bury,
Assistant Chief Counsel for International Law, Legislation, and Regulations.

[FR Doc. 2014-17528 Filed 7-24-14; 8:45 am]

BILLING CODE 4910-13-P